DEPARTMENT OF TRANSPORTATION

Federal Aviation Administration

Ninth Meeting—RTCA Special Committee 217: Joint With EUROCAE WG-44 Terrain and Airport Mapping Databases

AGENCY: Federal Aviation Administration (FAA), DOT.

ACTION: Notice of RTCA Special Committee 217: Joint with EUROCAE WG-44 Terrain and Airport Mapping Databases.

SUMMARY: The FAA is issuing this notice to advise the public of a meeting of RTCA Special Committee 217: Joint with EUROCAE WG-44 Terrain and Airport Mapping Databases.

DATES: The meeting will be held September 6-9, 2011, from 9 a.m. to 5 p.m.

ADDRESSES: The meeting will be held at Linkoping University, Norrkoping Campus, Bredgatan 33, 602 21 Norrköping. For additional information, contact John Kasten at john.kasten@jeppesen.com, (303) 328-4535 (office), (303) 260-9652 (mobile) or alternate contact Roger Li at riger.li@lfv.se or +46.11.19.27.13 (office) or +46.709.18.91.48 (mobile)

FOR FURTHER INFORMATION CONTACT: RTCA Secretariat, 1150 18th Street, NW., Suite 910 Street, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 217: Joint with EUROCAE WG-44 Terrain and Airport Mapping Databases meeting. The agenda will include:

September 6th, 2011

• Opening Plenary Session.

• Chairman's remarks and Introductions.

• Housekeeping.

• Approve minutes from previous meeting and RTCA paper No. 137-11/SC217-025.

• Review and Approve Meeting Agenda.

• Schedule for this week.

• PMC Meeting, September 28, 2011 Discussion.

• Action Item Review (looking for presentations).

• Presentations (Not Liked to Working Group Activity).

• Working Group Reports (Activity Status).

September 7th, 2011

• Terrain and Obstacle Working Group Report.

• Other Working Group Reports.

• New Working Group ASRN V&V Document (DO-xxx).

September 8 th, 2011

• Terrain and Obstacle Working Session.

• ASN V&V Working Group.

• LFV Presentations and/or Demonstrations.

September 9th, 2011

• Working Group Road Map Review.

• Draft Terms of Reference Update for DO-272D and DO-291C.

• Action Item Review.

• Other Business.

• Closing Plenary Session.

• Joint RTCA SC-217/EUROCAE WG-44.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 26, 2011.
Robert L. Bostiga,
RTCA Advisory Committee.

[FR Doc. 2011-22447 Filed 8-31-11; 8:45 am]

BILLING CODE 4910-13-P